DEPARTMENT OF THE INTERIOR

Bureau of Indian Affairs

Education Facilities Replacement Construction Priority List as of FY 2000, With Additions

AGENCY: Bureau of Indian Affairs, Interior.

ACTION: Notice.

SUMMARY: The Bureau of Indian Affairs is adding seven educational facilities to the Education Facilities Replacement Construction Priority List (Priority List) published January 31, 2000 in the Federal Register (65 FR 4623). The added schools are the Tiospa Zina Tribal School, Wide Ruins Community School, Low Mountain Boarding School, St. Francis Indian School, Turtle Mountain High School, Mescalero Apache School, and Enemy Swim Day School. In the 1999 application ranking process for replacement school construction projects, these schools received the next highest rankings after the 10 educational facilities placed on the Priority List. The Bureau will use the Priority List to determine the order in which Congressional appropriations are requested for funding education facilities replacement construction projects. Construction funding is not yet currently available for all projects on the Priority List.

FOR FURTHER INFORMATION CONTACT: Questions regarding the Education Facilities Construction Priority List may be addressed to Dr. Kenneth G. Ross, Assistant Director, Office of Indian Education Programs, 201 Third St. NW, Suite 510, Albuquerque, New Mexico 87102, (505) 346-6544/5/6, Fax (505) 346-6553.

SUPPLEMENTARY INFORMATION: The BIA is adding Tiospa Zina Tribal School, Wide Ruins Community School, Low Mountain Boarding School, St. Francis Indian School, Turtle Mountain High School, Mescalero Apache School, and Enemy Swim Day School to the 13 schools shown on the Priority List, in the event that Congressional appropriations are available to fully fund construction costs for these 13 education facilities projects currently on the Priority List prior to the BIA conducting another nationwide application solicitation and ranking process.

On the Priority List as of FY 2000, with Additions (see below), Tiospa Zina Tribal School is ranked No. 14, Wide Ruins Community School is ranked No. 15, Low Mountain Boarding School is ranked No. 16, St. Francis Indian School is ranked No. 17, Turtle Mountain High School is ranked No. 18, Mescalero Apache School is ranked No. 19, and Enemy Swim Day School is ranked No. 20. Education Facilities Replacement Construction projects on the Priority List will be funded for construction in the order in which they are ranked, as appropriations become available, unless a school is not ready for the next phase of funding. In accordance with Congressional directives, the projects do not provide for new school starts nor grade level expansions, and a new cost share demonstration program requires a tribe to contribute 50% of the construction cost of a replacement school. (Pub. L. 106-291, Sec. 153)

This notice is published under authority delegated by the Secretary of the Interior to the Assistant Secretary for Indian Affairs in the Departmental Manual at 209 DM 8.

Education Facilities Replacement Construction Priority List as of FY 2000, With Additions

1. Tuba City Boarding School

2. Second Mesa Day School

3. Zia Day School

4. Baca/Thoreau (Dlo'ay Azhi) Consolidated Community School

5. Lummi Tribal School

6. Wingate Elementary School

7. Polacca Day School

8. Holbrook Dormitory

9. Santa Fe Indian School (Cost Share*)

10. Ojibwa Indian School

11. Conehatta Elementary School (Cost Share*)

12. Paschal Sherman Indian School

13. Kayenta Boarding School

14. Tiospa Zina Tribal School

15. Wide Ruins Community School

16. Low Mountain Boarding School

17. St. Francis Indian School

18. Turtle Mountain High School

19. Mescalero Apache School

20. Enemy Swim Day School

* Tribe or tribal organization commits to cost share in application.

Note: Tribe or tribal organization is required to cost share 50% of the cost for a replacement school. Conehatta Elementary School is the only school that committed to a 50% cost share in its application.

Dated: December 27, 2000.
Kevin Gover,
Assistant Secretary—Indian Affairs.

[FR Doc. 01-516 Filed 1-8-01; 8:45 am]

BILLING CODE 4310-02-P